FEDERAL DEPOSIT INSURANCE CORPORATION

[OMB No. 3064-0057; -0061; -0087]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0057; -0061; -0087).

DATES: Comments must be submitted on or before July 3, 2023.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Certified Statement for Semiannual Deposit Insurance Assessment.

OMB Number: 3064-0057.

Forms: None.

Affected Public: FDIC-insured depository institutions.

Burden Estimate:

Summary of Estimated Annual Burden
[OMB No. 3064-0057]
Information collection (obligation to respond) | Type of burden (frequency of response) | Number of respondents | Number of responses per respondent | Time per response (HH:MM) | Annual burden (hours)
1. Quarterly Certified Statement Invoice for Deposit Insurance Assessment, 12 CFR Part 327 (Mandatory) | Reporting (Quarterly) | 4,755 | 4 | 00:20 | 6,340
Total Annual Burden (Hours) |  |  |  |  | 6,340
Source: FDIC.

General Description of Collection: The FDIC collects deposit insurance assessments on a quarterly basis. Each quarterly assessment is based on an insured depository institution's quarterly report of condition for the prior calendar quarter. The FDIC collects the quarterly assessment payments by means of direct debits through the Automated Clearing House network. The information collection consists of the reporting requirement associated with certifying the review by officials of the insured institutions to confirm that the assessment data are accurate and, in cases of inaccuracy, submission of corrected data. There is no change in the substance or methodology of this information collection. The change in burden is due solely to the decrease in the estimated number of respondents by 671 from the estimated 7,011 annual respondents in the currently-approved information collection to the current estimate of 6,340. The decrease in estimated respondents is the result of the drop in the total number of insured depository institutions.

2. Title: Summary of Deposits.

OMB Number: 3064-0061.

Forms: None.

Affected Public: FDIC-insured depository institutions.

Burden Estimate:

Summary of Estimated Annual Burden
[OMB No. 3064-0061]
Information collection (obligation to respond) | Type of burden (frequency of response) | Number of respondents | Number of responses per respondent | Time per response (HH:MM) | Annual burden (hours)
1. Summary of Deposits (Mandatory) | Recordkeeping (Annual) | 3,870 | 1 | 3:00 | 11,610
Total Annual Burden (Hours) |  |  |  |  | 11,610

General Description of Collection: The Summary of Deposits (SOD) is the annual survey of branch office deposits as of June 30 for all FDIC-insured institutions, including insured U.S. branches of foreign banks. All FDIC-insured institutions that operate a main office and one or more branch locations (including limited service drive-thru locations) as of June 30 each year are required to file the SOD Survey. Insured branches of foreign banks are also required to file. All data collected on the SOD submission are available to the public. The survey data provides a basis for measuring the competitive impact of bank mergers and has additional use in research on banking. There is no change in the substance or methodology of this information collection. The change in burden is due solely to the decrease in the estimated number of respondents by 429 from the estimated 4,299 annual respondents in the currently-approved information collection to the current estimate of 3,870.

3. Title: Procedures for Monitoring Bank Secrecy Act Compliance.

OMB Number: 3064-0087.

Forms: None.

Affected Public: Insured State Nonmember Banks and Savings Associations..

Burden Estimate:

Summary of Estimated Annual Burden
[OMB No. 3064-0087]
Information collection (obligation to respond) | Type of burden (frequency of response) | Number of respondents | Number of responses per respondent | Time per response (HH:MM) | Annual burden (hours)
1. Procedures for monitoring BSA compliance, small institutions (<$500 million in total assets), 12 CFR 326.8(b)(1) and (c) (Mandatory) | Recordkeeping (Annual) | 2,013 | 1 | 35:00 | 70,455
2. Procedures for monitoring BSA compliance, medium institutions ($500 million to $10 billion in total assets), 12 CFR 326.8(b)(1) and (c)(Mandatory) | Recordkeeping (Annual) | 964 | 1 | 250:00 | 241,000
3. Procedures for monitoring BSA compliance, large institutions (>$10 billion in total assets), 12 CFR 326.8(b)(1) and (c) (Mandatory) | Recordkeeping (Annual) | 61 | 1 | 450:00 | 27,450
Total Annual Burden (Hours) |  |  |  |  | 338,905
Source: FDIC.

General Description of Collection: Respondents must establish and maintain procedures designed to monitor and ensure their compliance with the requirements of the Bank Secrecy Act and the implementing regulations promulgated by the Department of Treasury at 31 CFR chapter X. Respondents must also keep records evidencing that they have provided training for appropriate personnel. There is no change in the method or substance of the collection. The overall increase in burden hours is a result of economic fluctuation. In particular, the total number of respondents has increased while the hours per response remain the same.

Request for Comment: Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on April 27, 2023.
James P. Sheesley,
Assistant Executive Secretary.

[FR Doc. 2023-09319 Filed 5-2-23; 8:45 am]

BILLING CODE 6714-01-P